DEPARTMENT OF ENERGY

Federal Energy Regulatory Commission

Combined Notice of Filings

Take notice that the Commission has received the following Natural Gas Pipeline Rate and Refund Report filings:

Filings Instituting Proceedings

Docket Numbers: RP20-200-000.

Applicants: ConocoPhillips Company,W&T Offshore, Inc.

Description: Joint Petition for Temporary Waiver of Commission Capacity Release Regulations and Policies, et al. of ConocoPhillips Company, et al under RP20-200.

Filed Date: 11/4/19.

Accession Number: 20191104-5062.

Comments Due: 5 p.m. ET 11/12/19.

Docket Numbers: RP20-201-000.

Applicants: Enable Mississippi River Transmission, LLC.

Description: § 4(d) Rate Filing: Negotiated Rate Filing—Spire RP18-923 Settlement to be effective 1/1/2019.

Filed Date: 11/4/19.

Accession Number: 20191104-5072.

Comments Due: 5 p.m. ET 11/18/19.

Docket Numbers: RP20-202-000.

Applicants: Transcontinental Gas Pipe Line Company, LLC.

Description: § 4(d) Rate Filing: Non-Conforming—Gateway to be effective 12/1/2019.

Filed Date: 11/4/19.

Accession Number: 20191104-5102.

Comments Due: 5 p.m. ET 11/18/19.

Docket Numbers: RP20-203-000.

Applicants: Equitrans, L.P.

Description: § 4(d) Rate Filing: Negotiated Capacity Release Agreements—11/4/2019 to be effective 11/1/2019.

Filed Date: 11/4/19.

Accession Number: 20191104-5105.

Comments Due: 5 p.m. ET 11/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 5, 2019.
Nathaniel J. Davis, Sr.,
Deputy Secretary.

[FR Doc. 2019-24557 Filed 11-8-19; 8:45 am]

BILLING CODE 6717-01-P